AGENCY FOR INTERNATIONAL DEVELOPMENT

60-Day Notice of Proposed Information Collection—USAID Acquisition Regulation

AGENCY: Agency for International Development.

ACTION: Notice of proposed information collection.

SUMMARY: The U.S. Agency for International Development (USAID) seeks Office of Management and Budget (OMB) approval to continue the information collection described below. In accordance with the Paperwork Reduction Act of 1995, USAID requests public comment on this collection from all interested individuals and organizations.

DATES: Submit comments on or before October 28, 2024.

ADDRESSES: You may submit comments through the Federal eRulemaking Portal at https://www.regulations.gov by following the instructions for submitting comments.

FOR FURTHER INFORMATION CONTACT: Ms. Nicole Thompson, at (202)286-4696 or via email at policymailbox@usaid.gov.

SUPPLEMENTARY INFORMATION:

Instructions

All comments must be in writing and submitted through the method(s) specified in the ADDRESSES section above. All submissions must include the information collection title(s). Please include your name, title, organization, telephone number, and email address in the text of the message. Please note that comments submitted in response to this Notice are public record. We recommend that you do not submit detailed personal information, Confidential Business Information, or any information that is otherwise protected from disclosure by statute.

Purpose

The U.S. Agency for International Development (USAID) is authorized to make contracts with any corporation, international organization, or other body of persons in or outside of the United States in furtherance of the purposes and within limitations of the Foreign Assistance Act (FAA). As part of this authority, USAID requests certain information from contractors using contract clauses in the USAID Acquisition Regulation (AIDAR). USAID has an existing Information Collection under OMB No: OMB 0412-0520. This information collection includes the following offeror or contractor reporting requirements, identified by the AIDAR section number, as specified in the AIDAR 701.106: 752.219-8, 752.245-70, 752.245-71(c)(2), 752.247-70(c), 752.7001, 752.7002(j), 752.7003, 752.7004 and 752.7032. Other information collection requirements under the AIDAR exist under separate OMB approvals.

The pre-award requirements are based on a need for prudent management in the determination that an offeror either has or can obtain the ability to competently manage development assistance programs using public funds. The requirements for information collection during the post-award period are based on the need to prudently administer public funds. USAID most recently renewed this approval effective July 15, 2021 (86 FR 31693). This current renewal makes no revisions to existing clauses or underlying forms and updates burden estimates.

Comments are requested concerning: (a) Whether the collections of information are necessary for the proper performance of the functions of the Agency, including whether the information shall have practical utility; (b) the accuracy of the burden estimates; (c) ways to enhance the quality, utility, and clarity of the information collected; and (d) ways to minimize the burden of the collection of information on the respondents, including through the use of automated collection techniques or other forms of information technology.

USAID will only address comments that explain why the proposed collection would be inappropriate, ineffective, or unacceptable without a change. Comments that are insubstantial or outside the scope of the notice of request for public comment may not be considered.

Overview of Information Collections

OMB No: 0412-0520.

Form: AID 1420-17, Contractor Employee Biographical Data Sheet (AIDAR 752.7001).

Title of Information Collection: USAID Acquisition Regulation (AIDAR 701.106).

Type of Review: Extension, without change, of a currently approved collection.

Respondents: USAID contractors.

Estimated Number of Annual Responses: 75,010.

Estimated Number of Annual Burden Hours: 97,208.

USAID estimates that approximately 11,052 respondents will submit 75,010 submissions per year across each of the items covered in this information collection. The amount of time estimated to complete each response varies by item.

Jami J. Rodgers,
Senior Procurement Executive.

[FR Doc. 2024-19342 Filed 8-27-24; 8:45 am]

BILLING CODE 6116-01-P